DEPARTMENT OF DEFENSE

Department of the Army, Corps of Engineers

Intent To Prepare a Draft Environmental Impact Statement for Conveyance and Seepage Control Features Project

AGENCY: Department of the Army, U.S. Army Corps of Engineers, DOD.

ACTION: Notice of intent.

SUMMARY: The Conveyance and Seepage Control Features (CSCF) project is part of the Modified Water Deliveries to Everglades National Park Project and is authorized by the 1992 General Design Memorandum and Environmental Impact Statement titled Central and Southern Florida Project for Flood Control and Other Purposes Modified Water Deliveries to Everglades National Park. The project will address potential features of the L-67A and L-67C levees, the L-67A Borrow Canal, and the L-29 Levee.

The L-67A and L-67C Levees prevent overland flow from Water Conservation Area (WCA) 3A to WCA 3B and are located in north-central Miami-Dade County, FL. The purpose of this project is to improve conveyance through the L-67A and L-67C Levees to allow water to flow from WCA 3A to WCA 3B. The Corps proposes to add conveyance structures to the L-67A Levee, as well as plugs to the L-67A Borrow Canal with a boat channel through the middle of each plug. The proposed modifications for L-67C Levee include gaps through the levee. The L-29 Levee may have to be modified as a result of increased conveyance through the L-67A and L-67C Levees.

DATES: See SUPPLEMENTARY INFORMATION section for scoping meeting date.

ADDRESSES: U.S. Army Corps of Engineers, Planning Division, Environmental Branch, P.O. Box 4970, Jacksonville, FL 32232-0019.

FOR FURTHER INFORMATION CONTACT: Mrs. Susan Conner at (904) 232-1782 or e-mail at Susan.L.Conner@usace.army.mil.

SUPPLEMENTARY INFORMATION: a. A scoping letter was sent to invite comments on alternatives and issues from Federal, State, and local agencies, affected Indian tribes, and other interested private organizations and individuals. The scoping letter was sent out in November 2008. A public meeting will be held in order to provide information on the proposed project and gather public comments and concerns. The meeting will be held on Thursday, November 20, 2008, 7 p.m. at the South Florida Water Management District, Miami Field Station, 9001 N.W. 58th Street, Miami, Florida 33178.

b. A public meeting will be held after release of the Draft Environmental Impact Statement. The exact location, date, and times will be announced in a public notice and local newspapers.

c. The Draft EIS will analyze the potential social, economic, and environmental impacts to the local area resulting from the proposed project and alternatives. Specifically, the following major issues will be analyzed in the Draft EIS: Hydrologic and hydraulic regimes, threatened and endangered species, fish and wildlife habitat, wetlands, essential fish habitat and other marine habitat, air quality, cultural resources, alternatives, secondary and cumulative impacts, socioeconomic impacts, and environmental justice).

d. The Corps will serve as the lead Federal agency in the preparation of the Draft EIS. The Corps intends to coordinate and/or consult with an interagency team of Federal and State agencies during scoping and preparation of during the scoping process whether other agencies will serve in an official role as cooperating agencies.

Brenda S. Bowen,
Army Federal Register Liaison Officer.

[FR Doc. E8-27434 Filed 11-18-08; 8:45 am]

BILLING CODE 3720-58-P